DEPARTMENT OF DEFENSE

Defense Acquisition Regulations System

48 CFR Parts 204 and 244

RIN 0750-AF61

Defense Federal Acquisition Regulation Supplement; Closeout of Contract Files (DFARS Case 2006-D045)

AGENCY: Defense Acquisition Regulations System, Department of Defense (DoD).

ACTION: Proposed rule with request for comments.

SUMMARY: DoD is proposing to amend the Defense Federal Acquisition Regulation Supplement (DFARS) to remove text addressing DoD procedures for closeout of contract files. The text proposed for removal will be relocated to the DFARS companion resource, Procedures, Guidance, and Information.

DATES: Comments on the proposed rule should be submitted in writing to the address shown below on or before May 29, 2007, to be considered in the formation of the final rule.

ADDRESSES: You may submit comments, identified by DFARS Case 2006-D045, using any of the following methods:

• Federal eRulemaking Portal: http://www.regulations.gov. Follow the instructions for submitting comments.

• E-mail: dfars@osd.mil. Include DFARS Case 2006-D045 in the subject line of the message.

• Fax: (703) 602-0350.

• Mail: Defense Acquisition Regulations System, Attn: Ms. Deborah Tronic, OUSD(AT&L)DPAP(DARS), IMD 3C132, 3062 Defense Pentagon, Washington, DC 20301-3062.

• Hand Delivery/Courier: Defense Acquisition Regulations System, Crystal Square 4, Suite 200A, 241 18th Street, Arlington, VA 22202-3402.

Comments received generally will be posted without change to http://www.regulations.gov, including any personal information provided.

FOR FURTHER INFORMATION CONTACT: Ms. Deborah Tronic, (703) 602-0289.

SUPPLEMENTARY INFORMATION:

A. Background

This proposed rule revises DFARS 204.804 to remove text addressing DoD procedures for closeout of contract files. The text will be relocated to the DFARS companion resource, Procedures, Guidance, and Information (PGI). The proposed rule also amends DFARS 244.304 to clarify an existing reference to corresponding PGI text.

Additional information on PGI is available at http://www.acq.osd.mil/dpap/dars/pgi/index.htm.

This rule was not subject to Office of Management and Budget review under Executive Order 12866, dated September 30, 1993.

B. Regulatory Flexibility Act

DoD does not expect this rule to have a significant economic impact on a substantial number of small entities within the meaning of the Regulatory Flexibility Act, 5 U.S.C. 601, et seq., because the rule pertains to administrative procedures for contract closeout functions performed by the Government. Therefore, DoD has not performed an initial regulatory flexibility analysis. DoD invites comments from small businesses and other interested parties. DoD also will consider comments from small entities concerning the affected DFARS subparts in accordance with 5 U.S.C. 610. Such comments should be submitted separately and should cite DFARS Case 2006-D045.

C. Paperwork Reduction Act

The Paperwork Reduction Act does not apply, because the rule does not impose any information collection requirements that require the approval of the Office of Management and Budget under 44 U.S.C. 3501, et seq.

List of Subjects in 48 CFR Parts 204 and 244

Government procurement.

Michele P. Peterson,
Editor, Defense Acquisition Regulations System.

Therefore, DoD proposes to amend 48 CFR Parts 204 and 244 as follows:

1. The authority citation for 48 CFR parts 204 and 244 continues to read as follows:

Authority: 41 U.S.C. 421 and 48 CFR Chapter 1.

PART 204—ADMINISTRATIVE MATTERS

2. Section 204.804 is revised to read as follows:

204.804 Closeout of contract files.

Contracting officers shall close out contracts in accordance with the procedures at PGI 204.804. The closeout date for file purposes shall be determined and documented by the procuring contracting officer.

204.804-1 and 204.804-2 [Removed]

3. Sections 204.804-1 and 204.804-2 are removed.

PART 244-SUBCONTRACTING POLICIES AND PROCEDURES

4. Section 244.304 is amended in paragraph (b) by revising the second sentence to read as follows:

244.304 Surveillance.

(b) * * * See PGI 244.304(b) for guidance on how weaknesses may arise and may be discovered.

[FR Doc. E7-5473 Filed 3-26-07; 8:45 am]

BILLING CODE 5001-08-P